DEPARTMENT OF THE INTERIOR

Bureau of Indian Affairs

Land Acquisitions; Enterprise Rancheria of Maidu Indians of California

AGENCY: Bureau of Indian Affairs, Interior.

ACTION: Notice of Final Agency Determination.

SUMMARY: The Assistant Secretary—Indian Affairs made a final agency determination to acquire approximately 40 acres of land in trust for gaming purposes for the Enterprise Rancheria of Maidu Indians of California on November 21, 2012.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR Section 151.12(b) that notice be given to the public of the Secretary's decision to acquire land in trust at least 30 days prior to signatory acceptance of the land into trust. On November 21, 2012, the Assistant Secretary—Indian Affairs decided to accept approximately 40 acres of land into trust for the Enterprise Rancheria of Maidu Indians of California under the authority of the Indian Reorganization Act of 1934, 25 U.S.C. 465. The 40 acres are located approximately 4 miles southeast of the community of Olivehurst, near the intersection of Forty Mile Road and State Route 65 in Yuba County, California, described as:

A portion of the East half of Section 22, Township 14 North, Range 4 East, M.D.B.&M., described as follows:

Commence at the North quarter corner of said Section 22 and being marked by 2 brass monument stamped LS3341 in a monument well as shown on Record of Survey No. 2000-15 filed in Book 72 of Maps, Page 34, County Records; thence South 0°28′11″ East along the line dividing said Section 22 into East and West halves 2650.73 feet to a brass monument stamped LS3341 in a monument well as shown on said Record of Survey No. 2000-15 and marking the center of said Section 22; thence North 89°31′24″ East 65.00 feet to a point on the East right-of-way line of Forty Mile Road; thence North 0°28′11″ West along said East right-of-way line of Forty Mile Road 45.53 feet to a ½ inch rebar with LS3751 marking the point of beginning thence from said point of beginning continue along said East right-of-way line of Forty Mile Road the following courses and distances: North 0°28′11″ West 1133.70 feet; thence North 5°14′27″ East 50.25 feet; thence North 0°28′31″ West 750.00 to a ½ inch rebar with LS3751; thence leaving said East right-of-way line of Forty Mile Road run North 88°00′51″ East 1860.00 feet to a ½ inch with LS3751; thence South 0°28′11″ East 1932.66 feet to a ½ inch rebar with LS3751; thence South 87°59′10″ West 1865.03 feet to the point of beginning.

Said land is also shown as Parcel “C” on Certificate of Lot Line Adjustment 2002-07 recorded June 26, 2002, Instrument No. 2002-08119.

Official Records.

ANP: 014-280-095

Dated: November 21, 2012.
Kevin K. Washburn,
Assistant Secretary—Indian Affairs.

[FR Doc. 2012-29043 Filed 11-30-12; 8:45 am]

BILLING CODE 4310-4N-P